DEPARTMENT OF EDUCATION

Arbitration Panel Decisions Under the Randolph-Sheppard Act

AGENCY: Office of Special Education and Rehabilitative Services, Department of Education.

ACTION: Notice.

SUMMARY: This notice lists arbitration panel decisions under the Randolph-Sheppard Act issued from April 1, 2020 to July 31, 2020. This notice also lists any older decisions that the Department of Education (Department) has made publicly available in accessible electronic format during that period. All decisions are available on the Department's website and by request.

FOR FURTHER INFORMATION CONTACT: James McCarthy, U.S. Department of Education, 400 Maryland Avenue SW, Room 5064D, Potomac Center Plaza, Washington, DC 20202-2800. Telephone: (202) 245-6703. Email: james.mccarthy@ed.gov.

If you use a telecommunications device for the deaf (TDD) or a text telephone (TTY), call the Federal Relay Service, toll-free, at 1-800-877-8339.

SUPPLEMENTARY INFORMATION: For the purpose of providing individuals who are blind with remunerative employment, enlarging their economic opportunities, and stimulating greater efforts to make themselves self-supporting, the Randolph-Sheppard Act, 20 U.S.C. 107 et seq. (Act), authorizes individuals who are blind to operate vending facilities on Federal property and provides them with a priority for doing so. The vending facilities include, among other things, cafeterias, snack bars, and automatic vending machines. The Department administers the Act and designates an agency in each State—the State licensing agency (SLA)—to license individuals who are blind to operate vending facilities on Federal and other property in the State.

The Act provides for arbitration of disputes between SLAs and vendors who are blind and between SLAs and Federal agencies before three-person panels, convened by the Department, whose decisions constitute final agency action. 20 U.S.C. 107d-1. The Act also makes these decisions matters of public record and requires their publication in the Federal Register. 20 U.S.C. 107d-2(c).

The Department publishes lists of Randolph-Sheppard Act arbitration panel decisions in the Federal Register and the full text of the decisions listed are available on the Department's website (see below) or by request (see 84 FR 41941). Older, archived decisions are also added to the Department's website as they are digitized.

In the second quarter of 2020, Randolph-Sheppard arbitration panels issued the following decisions.

Case name | Docket No. | Date | State
Illinois v. The Department of Energy | R-S/16-12 | 4/30/2020 | Illinois.
Oklahoma v. the Department of the Army, Fort Sill | R-S/18-09 | 6/22/2020 | Oklahoma.

These decisions and other decisions that we have already posted are searchable by key terms, are accessible under Section 508 of the Rehabilitation Act, and are available in Portable Document Format (PDF) on the Department's website at www.ed.gov/programs/rsarsp/arbitration-decisions.html or by request to the person listed under FOR FURTHER INFORMATION CONTACT.

At the same site, we have posted the following older, archived decision from 2019.

Case name | Docket No. | Date | State
The Florida Department of Education, Division of Blind Services v. The Department of the Air Force, Hurlburt Field | R-S/17-03 | 6/13/2019 | Florida.

Accessible Format: Individuals with disabilities can obtain this document in an accessible format on request to the contact person listed under FOR FURTHER INFORMATION CONTACT. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or PDF. To use PDF, you must have Adobe Acrobat Reader, which is available free at the site.

You may also access documents of the Department published in the Federal Register by using the article search feature at www.federalregister.gov. Specifically, through the advanced search feature at this site, you can limit your search to documents published by the Department.

Mark Schultz,
Delegated the authority to perform the functions and duties of the Assistant Secretary for the Office of Special Education and Rehabilitative Services.

[FR Doc. 2021-00486 Filed 1-12-21; 8:45 am]

BILLING CODE 4000-01-P